SMALL BUSINESS ADMINISTRATION

Interagency Task Force on Veterans Small Business Development

AGENCY: U.S. Small Business Administration.

ACTION: Notice of open Federal Interagency Task Force Meeting.

Date and Time: December 10, 2015, from 9:00 a.m. to 12:00 noon.

ADDRESSES: SBA Headquarters, 409 3rd Street SW., Washington, DC 20416, in the Eisenhower Conference Room B, Concourse Level.

Purpose: This public meeting is to discuss recommendations identified by the Interagency Task Force (IATF) to further enable veteran entrepreneurship policy and programs. In addition, the Task Force will allow public comment regarding the focus areas.

SUPPLEMENTARY INFORMATION: Pursuant to section 10(a) (2) of the Federal Advisory Committee Act (5 U.S.C., Appendix 2), SBA announces the meeting of the Interagency Task Force on Veterans Small Business Development. The Task Force is established pursuant to Executive Order 13540 and focused on coordinating the efforts of Federal agencies to improve capital, business development opportunities and pre-established Federal contracting goals for small business concerns owned and controlled by veterans (VOB's) and service-disabled veterans (SDVOSB'S). Moreover, the Task Force shall coordinate administrative and regulatory activities and develop proposals relating to “six focus areas”: (1) Access to capital (loans, surety bonding and franchising); (2) Ensure achievement of pre-established contracting goals, including mentor protégé and matching with contracting opportunities; (3) Increase the integrity of certifications of status as a small business; (4) Reducing paperwork and administrative burdens in accessing business development and entrepreneurship opportunities; (5) Increasing and improving training and counseling services; and (6) Making other improvements to support veteran's business development by the Federal government.

Additional Information: Advance notice of attendance is requested. Anyone wishing to attend and/or make a presentation to the Task Force must contact Cheryl Simms by November 27, 2015 by email in order to be placed on the agenda. Comments for the record should be applicable to the “six focus areas” of the Task Force and emailed prior to the meeting for inclusion in the public record. Comments will be limited to five minutes in the interest of time and to accommodate as many presenters as possible. Written comments should be emailed to Cheryl Simms, Program Liaison for the Task Force, Office of Veterans Business Development at vetstaskforce@sba.gov. If participants need accommodations because of a disability or require additional information, please contact Cheryl Simms, Program Liaison at (202) 205-6773, or by email at vetstaskforce@sba.gov. For more information, please visit our Web site at www.sba.gov/vets.

Dated: November 4, 2015.
Miguel J. L'Heureux,
SBA Committee Management Officer.

[FR Doc. 2015-28866 Filed 11-12-15; 8:45 am]

BILLING CODE P